DEPARTMENT OF AGRICULTURE

Submission for OMB Review; Comment Request

November 26, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Organic Handler Market Promotion Assessment Exemption.

OMB Control Number: 0581-0216.

Summary of Collection: Industries enter into a marketing order program under the Agricultural Marketing Agreement Act (AMAA) of 1937, as amended by U.S.C. 601-674. Marketing Order programs provide an opportunity for producers of fresh fruit, vegetables, and specialty crops, in specified production areas, to work together to solve marketing problems that cannot be solved individually. In 2002, section 501 of the Fair Act was amended (7 U.S.C. 7401) to exempt any person that produces and markets solely 100 percent organic products, and that does not produce any conventional or non-organic products, from paying assessments under a commodity promotion law with respect to any agricultural commodity that is produced on a certified organic farm as defined in section 2103 of the Organic Foods Production Act of 1990.

Need and Use of the Information: The information collected on form FV-649, is necessary to assist the applicants in making their certifications and the committees or boards to determine an applicant's eligibility, to properly administer the assessment exemption and to verify compliance.

Description of Respondents: Business or other for-profit; farms.

Number of Respondents: 103.

Frequency of Responses: Recordkeeping; reporting: On occasion; annually.

Total Burden Hours: 52.

Agricultural Marketing Service

Title: Lamb Promotion, Research, and Information Program: Referendum Procedures.

OMB Control Number: 0581-0227.

Summary of Collection: The Agricultural Marketing Service (AMS) has the responsibility for the national commodity research and promotion programs. The authority for the Lamb Promotion, Research, and Information Order is established under the Commodity Promotion, Research, and Information Act of 1996 (Act) (7 U.S.C. 7411 et seq.). This Act establishes procedures to conduct a referendum among persons subject to assessments who, during a representative period announced by the Secretary of Agriculture, have engaged in the production, feeding, handling, or slaughter of lamb or the exportation of lamb or lamb products.

Need and Use of the Information: The referendum, using form LS-86, is to determine whether the persons subject to assessments favor the continuation, suspension, or termination of the Order. Provision is made for voting in-person, facsimile or by mail at Farm Service Agency county offices only during the period of the referendum.

Description of Respondents: Farms; business or other for-profit.

Number of Respondents: 69,761.

Frequency of Responses: Reporting: On occasion.

Total Burden Hours: 2,093.

Agricultural Marketing Service

Title: Farmers Market Promotion Program (FMPP).

OMB Control Number: 0581-0235.

Summary of Collection: The purposes of the Farmers Market Promotion Program (FMPP) are to increase domestic consumption of agricultural commodities by improving and expanding, assisting in the improvement and expansion, and to develop or aid in the development of new domestic farmers' markets, roadside stands, community-supported agriculture programs, and other direct producer-to-consumer infrastructure. The Farmer-to-Consumer Marketing Act of 1976 (Act) directs USDA to encourage the direct marketing of agricultural commodities from farmers to consumers, and to promote the development and expansion of direct marketing of agricultural commodities from farmers to consumers. The recently authorized Farmer's Market Promotion Program (FMPP) (7 U.S.C. 3005), section 6 of 7 U.S.C. 3004 directs the Secretary of Agriculture to “carry out a program to make grants to eligible entities for projects to establish, expand, and promote farmers' markets.”

Need and Use of the Information: The Agricultural Marketing Service will review grant application information to determine eligibility of applicants for participation in FMPP, evaluate goals, objectives, work-plans, expected results and budget for the project.

Description of Respondents: State, Local or Tribal Government.

Number of Respondents: 400.

Frequency of Responses: Recordkeeping; Reporting: One time.

Total Burden Hours: 3,944.

Charlene Parker,
Departmental Information Collection Clearance Officer.

[FR Doc. E7-23157 Filed 11-28-07; 8:45 am]

BILLING CODE 3410-02-P